DEPARTMENT OF TRANSPORTATION

Federal Aviation Administration

14 CFR Part 39

[Docket No. FAA-2006-26134; Directorate Identifier 2006-CE-56-AD; Amendment 39-14898; AD 2007-02-11]

RIN 2120-AA64

Airworthiness Directives; EXTRA Flugzeugproduktions-und Vertriebs-GmbH Models EA-300, EA-300S, EA-300L, and EA-300/200 Airplanes

AGENCY: Federal Aviation Administration (FAA), Department of Transportation (DOT).

ACTION: Final rule.

SUMMARY: We are adopting a new airworthiness directive (AD) to supersede AD 2002-21-11, which applies to certain EXTRA Flugzeugbau GmbH (EXTRA) Model EA-300S airplanes. AD 2002-21-11 currently requires you to inspect, using a fluorescent dye check penetrant method, the upper longeron at the horizontal stabilizer attachment for cracks, repair any cracks found, and modify the horizontal stabilizer. That AD also requires a limit on operation to the Normal category until the initial inspection and modification on airplanes with less than 200 hours time-in-service is done. Since we issued AD 2002-21-11, cracks have been found on Models EA-300L and EA-300/200 airplanes. Consequently, this AD adds airplanes to the Applicability section and requires you to inspect and modify the upper longeron at the horizontal stabilizer attachment. This AD results from mandatory continuing airworthiness information (MCAI) issued by the airworthiness authority for Germany. We are issuing this AD to detect, correct, and prevent cracks in the upper longeron at the horizontal stabilizer attachment, which could result in structural failure of the aft fuselage. This failure could lead to loss of control.

DATES: This AD becomes effective on February 28, 2007.

As of February 28, 2007, the Director of the Federal Register approved the incorporation by reference of certain publications listed in the regulation.

ADDRESSES: For service information identified in this AD, contact EXTRA Flugzeugproduktions-und Vertriebs-GmbH, Schwarze Heide 21, D-46569 Huenxe, Germany; fax: (+49)-2858-9137-42.

To view the AD docket, go to the Docket Management Facility, U.S. Department of Transportation, 400 Seventh Street, SW., Nassif Building, Room PL-401, Washington, DC 20590-001 or on the Internet at http://dms.dot.gov. The docket number is FAA-2006-26134; Directorate Identifier 2006-CE-56-AD.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

On November 15, 2006, we issued a proposal to amend part 39 of the Federal Aviation Regulations (14 CFR part 39) to include an AD that would apply to certain EXTRA Flugzeugproduktions-und Vertriebs-GmbH (EXTRA) Models EA-300, EA-300S, EA-300L, and EA-300/200 airplanes. This proposal was published in the Federal Register as a notice of proposed rulemaking (NPRM) on November 22, 2006 (71 FR 67499). The NPRM proposed to supersede AD 2002-21-11, Amendment 39-12917 (67 FR 65479, October 25, 2002), with a new AD that would require you to do the following:

• Inspect the upper longeron at the horizontal stabilizer attachment for cracks;

• Reinforce the upper longeron in the area of the horizontal stabilizer attachment; and

• Install V-tubes to reinforce fuselage frame underneath the horizontal stabilizer attachment bracket on Models EA-300S and EA-300L airplanes only.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Differences Between the European Authority AD, the Service Bulletin, and This AD

EASA AD No. 2006-0281, dated September 14, 2006, and EXTRA Service Bulletin No. 300-2-95, Issue: F, Dated: July 10, 2006, allow 50-hour repetitive inspections of the horizontal stabilizer attachment with the option of installing the modification kits as a terminating action for the repetitive inspections for certain affected airplanes. This AD does not allow continued repetitive inspections.

The FAA has determined that long-term continued operational safety is better assured by design changes that remove the source of the problem rather than by repetitive inspections or other special procedures.

Costs of Compliance

We estimate that this AD affects 134 airplanes in the U.S. registry.

We estimate the following costs to do the inspection:

Labor cost | Parts cost | Total cost per airplane | Total cost on U.S. operators
24 work-hours × $80 per hour = $1,920 | Not applicable | $1,920 | $1,920 × 134 = $257,280.

We estimate the following costs to do the modifications:

Labor cost | Parts cost | Total cost per airplane | Total cost on U.S. operators
40 work-hours × $80 per hour = $3,200 | $200 | $3,200 + $200 = $3,400 | $3,400 × 134 = $455,600.

For airplanes still covered under warranty, the manufacturer will provide warranty credit for up to 35 work-hours for the inspection and modification work, as stated on page 8 of EXTRA Service Bulletin No. 300-2-95, Issue: F, Dated: July 10, 2006.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-26134; Directorate Identifier 2006-CE-56-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-21-11, Amendment 39-12917 (67 FR 65479, October 25, 2002) and adding the following new AD:

2007-02-11 EXTRA Flugzeugproduktions-und Vertriebs-GmbH: Amendment 39-14898; Docket No. FAA-2006-26134; Directorate Identifier 2006-CE-56-AD.

Effective Date

(a) This AD becomes effective on February 28, 2007.

Affected ADs

(b) This AD supersedes AD 2002-21-11, Amendment 39-12917.

Applicability

(c) This AD applies to the following airplanes that are certificated in any category:

Models | Serial Nos.
EA-300 | 01 through 62.
EA-300L | 01 through 71, 73 through 77, 79 through 83, 85 through 89, 91, and 92.
EA-300S | 01 through 29.
EA-300/200 | 01 through 31 and 1032 through 1039.

Unsafe Condition

(d) This AD is the result from mandatory continuing airworthiness information (MCAI) issued by the airworthiness authority for Germany. The actions specified in this AD are intended to detect, correct, and prevent cracks in the upper longeron at the horizontal stabilizer attachment, which could result in structural failure of the aft fuselage. This failure could lead to loss of control.

Compliance

(e) To address this problem, you must do the following, unless already done:

Actions | Compliance | Procedures
(1) Inspect, using a fluorescent dye penetrant method, the upper longeron at the horizontal stabilizer attachment for cracks, as applicable. You may take “unless already done” credit for the inspections if you previously used Extra Service Bulletin No. 300-2-95 (pages 2-6 at Issue: C, dated July 15, 1998; and pages 1 and 7 through 11 at Issue: D, dated January 30, 2001) | (i) For Models EA-300S airplanes: Upon accumulating 250 hours time-in-service (TIS) after December 17, 2002 (the effective date of AD 2002-21-11) or within the next 50 hours TIS after February 28, 2007 (the effective date of this AD), whichever occurs first. (ii) For Models EA-300, EA-300L, and EA-300/200 airplanes: Within the next 50 hours TIS after February 28, 2007 (the effective date of this AD). (iii) For all affected airplanes: If the modifications specified in Part II and Part III of EXTRA Service Bulletin No. 300-2-95, Issue: F, Dated: July 10, 2006, have already been incorporated, no further action is required | Follow Part I of EXTRA Service Bulletin No. 300-2-95, Issue: F, Dated: July 10, 2006.
(2) If cracks are found during the inspection required in paragraph (e)(1) of this AD in areas A, B, and C (as shown in Figure 1 of EXTRA Service Bulletin No. 300-2-95, Issue: F, Dated: July 10, 2006), weld the crack and modify the upper longeron at the horizontal stabilizer attachment by installing the applicable modification kit (or FAA-approved equivalent parts) | For all affected airplanes: Before further flight after the inspection required in paragraph (e)(1) of this AD in which cracks are found, unless already done | Follow Part II of EXTRA Service Bulletin No. 300-2-95, Issue: F, Dated: July 10, 2006.
(3) If no cracks are found during the inspection required in paragraph (e)(1) of this AD, modify the upper longeron at the horizontal stabilizer attachment by installing the applicable modification kit (or FAA-approved equivalent parts) | For all affected airplanes: Within the next 100 hours TIS after February 28, 2007 (the effective date of this AD), unless already done | Follow Part II of EXTRA Service Bulletin No. 300-2-95, Issue: F, Dated: July 10, 2006.
(4) For Models EA-300S and EA-300L airplanes only: Reinforce the fuselage frame underneath the horizontal stabilizer main spar attachment bracket by installing the applicable modification kit (or FAA-approved equivalent parts) | (i) For Model EA-300S: Within the next 200 hours TIS after December 17, 2002 (the effective date of AD 2002-21-11) or within the next 100 hours TIS after February 28, 2007 (the effective date of this AD), whichever occurs first, unless already done. (ii) For Model EA-300L: Within the next 100 hours TIS after February 28, 2007 (the effective date of this AD), unless already done | Follow Part III of EXTRA Service Bulletin No. 300-2-95, Issue: F, Dated: July 10, 2006.

Alternative Methods of Compliance (AMOCs)

(f) The Manager, Standards Office, Small Airplane Directorate, FAA, ATTN: Karl Schletzbaum, Aerospace Engineer, 901 Locust, Room 301, Kansas City, Missouri 64106; telephone: (816) 329-4146; fax: (816) 329-4090, has the authority to approve AMOCs for this AD, if requested using the procedures found in 14 CFR 39.19.

(g) AMOCs approved for AD 2002-21-11 are approved for this AD.

Related Information

(h) The European Aviation Safety Agency (EASA) AD No. 2006-0281, dated September 14, 2006, also addresses the subject of this AD.

Material Incorporated by Reference

(i) You must use EXTRA Service Bulletin No. 300-2-95, Issue: F, Dated: July 10, 2006 to do the actions required by this AD, unless the AD specifies otherwise.

(1) The Director of the Federal Register approved the incorporation by reference of this service information under 5 U.S.C. 552(a) and 1 CFR part 51.

(2) For service information identified in this AD, contact EXTRA Flugzeugproduktions- und Vertriebs- GmbH, Schwarze Heide 21, D-46569 Huenxe, Germany; fax: (+49)-2858-9137-42.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri on January 12, 2007.
Kim Smith,
Manager, Small Airplane Directorate, Aircraft Certification Service.

[FR Doc. E7-775 Filed 1-23-07; 8:45 am]

BILLING CODE 4910-13-P